SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: August 1-31, 2015.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(f) for the time period specified above:

Approvals by Rule Issued Under 18 CFR 806.22(f)

1. EOG Resources, Inc., Pad ID: PHC 7H, ABR-20090722.R1, Lawrence Township, Clearfield County, Pa.; Consumptive Use of Up to 1.9999 mgd; Approval Date: August 6, 2015.

2. Chevron Appalachia, LLC, Pad ID: Hutton Unit #1H, ABR-20090518.R1, Chest Township, Clearfield County, Pa.; Consumptive Use of Up to 5.0000 mgd; Approval Date: August 11, 2015.

3. Chevron Appalachia, LLC, Pad ID: Lytle Unit Drilling Pad #1H, ABR-20100104.R1, Lawrence Township, Clearfield County, Pa.; Consumptive Use of Up to 5.0000 mgd; Approval Date: August 11, 2015.

4. Chevron Appalachia, LLC, Pad ID: Shannon Land & Mining Drilling Pad #1, ABR-20100628.R1, Lawrence Township, Clearfield County, Pa.; Consumptive Use of Up to 2.0000 mgd; Approval Date: August 11, 2015.

5. Chevron Appalachia, LLC, Pad ID: Snow Shoe 2, ABR-201011007.R1, Snow Shoe Township, Centre County, Pa.; Consumptive Use of Up to 4.0000 mgd; Approval Date: August 11, 2015.

6. Chevron Appalachia, LLC, Pad ID: Snow Shoe 4, ABR-201011042.R1, Snow Shoe Township, Centre County, Pa.; Consumptive Use of Up to 4.0000 mgd; Approval Date: August 11, 2015.

7. Chevron Appalachia, LLC, Pad ID: Smithmyer Drilling Pad #1, ABR-201101020.R1, Clearfield Township, Cambria County, Pa.; Consumptive Use of Up to 2.0000 mgd; Approval Date: August 11, 2015.

8. Anadarko E&P Onshore, LLC, Pad ID: COP Tr 285 Pad G, ABR-201007002.R1, Grugan Township, Clinton County, Pa.; Consumptive Use of Up to 3.0000 mgd; Approval Date: August 13, 2015.

9. Anadarko E&P Onshore, LLC, Pad ID: Robert C Ulmer Pad A, ABR-201007049.R1, Watson Township, Lycoming County, Pa.; Consumptive Use of Up to 3.0000 mgd; Approval Date: August 13, 2015.

10. Anadarko E&P Onshore, LLC, Pad ID: COP Tr 343 Pad B, ABR-201007053.R1, Beech Creek Township, Clinton County, Pa.; Consumptive Use of Up to 3.0000 mgd; Approval Date: August 13, 2015.

11. Anadarko E&P Onshore, LLC, Pad ID: COP Tr 285 Pad C, ABR-201007062.R1, Grugan Township, Clinton County, Pa.; Consumptive Use of Up to 3.0000 mgd; Approval Date: August 13, 2015.

12. Anadarko E&P Onshore, LLC, Pad ID: COP Tr 290 Pad B, ABR-201008029.R1, McHenry Township, Lycoming County, Pa.; Consumptive Use of Up to 3.0000 mgd; Approval Date: August 13, 2015.

13. Anadarko E&P Onshore, LLC, Pad ID: COP Tr 289 Pad D, ABR-201008030.R1, McHenry Township, Lycoming County, Pa.; Consumptive Use of Up to 4.0000 mgd; Approval Date: August 13, 2015.

14. EOG Resources, Inc., Pad ID: COP Pad C, ABR-201008027.R1, Lawrence Township, Clearfield County, Pa.; Consumptive Use of Up to 4.9990 mgd; Approval Date: August 14, 2015.

15. EOG Resources, Inc., Pad ID: COP Pad J, ABR-201009022.R1, Lawrence Township, Clearfield County, Pa.; Consumptive Use of Up to 4.9990 mgd; Approval Date: August 14, 2015.

16. EOG Resources, Inc., Pad ID: COP Pad N, ABR-201103001.R1, Lawrence Township, Clearfield County, Pa.; Consumptive Use of Up to 4.9990 mgd; Approval Date: August 14, 2015.

17. EOG Resources, Inc., Pad ID: COP Pad O, ABR-201103030.R1, Lawrence Township, Clearfield County, Pa.; Consumptive Use of Up to 4.9990 mgd; Approval Date: August 14, 2015.

18. Chief Oil & Gas, LLC, Pad ID: Curtin Drilling Pad #1, ABR-201012034.R1, Albany Township, Bradford County, Pa.; Consumptive Use of Up to 2.0000 mgd; Approval Date: August 14, 2015.

19. SWEPI LP, Pad ID: Barbine 292, ABR-20100614.R1, Charleston Township, Tioga County, Pa.; Consumptive Use of Up to 4.0000 mgd; Approval Date: August 14, 2015.

20. SWEPI LP, Pad ID: Erickson 423, ABR-20100618.R1, Delmar Township, Tioga County, Pa.; Consumptive Use of Up to 4.0000 mgd; Approval Date: August 14, 2015.

21. SWEPI LP, Pad ID: Hege 426, ABR-20100622.R1, Delmar Township, Tioga County, Pa.; Consumptive Use of Up to 4.0000 mgd; Approval Date: August 14, 2015.

22. SWEPI LP, Pad ID: Allen 620, ABR-20100623.R1, Charleston Township, Tioga County, Pa.; Consumptive Use of Up to 4.0000 mgd; Approval Date: August 14, 2015.

23. SWEPI LP, Pad ID: Hazelton 424, ABR-20100626.R1, Shippen Township, Tioga County, Pa.; Consumptive Use of Up to 4.0000 mgd; Approval Date: August 14, 2015.

24. SWEPI LP, Pad ID: Pierson 810, ABR-20100633.R1, Gains Township, Tioga County, Pa.; Consumptive Use of Up to 4.9900 mgd; Approval Date: August 14, 2015.

25. SWEPI LP, Pad ID: Doan 893, ABR-20100670.R1, Deerfield Township, Tioga County, Pa.; Consumptive Use of Up to 4.0000 mgd; Approval Date: August 14, 2015.

26. Cabot Oil & Gas Corporation, Pad ID: KingD P1, ABR-201009010.R1, Dimock Township, Susquehanna County, Pa.; Consumptive Use of Up to 3.5750 mgd; Approval Date: August 14, 2015.

27. Cabot Oil & Gas Corporation, Pad ID: CosnerW P1, ABR-201009047.R1, Springville Township, Susquehanna County, Pa.; Consumptive Use of Up to 3.5750 mgd; Approval Date: August 14, 2015.

28. Anadarko E&P Onshore, LLC, Pad ID: COP Tr 356 Pad D, ABR-201007052.R1, Cummings Township, Lycoming County, Pa.; Consumptive Use of Up to 3.0000 mgd; Approval Date: August 14, 2015.

29. Anadarko E&P Onshore, LLC, Pad ID: COP Tr 357 Pad B, ABR-201007072.R1, Cummings Township, Lycoming County, Pa.; Consumptive Use of Up to 3.0000 mgd; Approval Date: August 14, 2015.

30. Anadarko E&P Onshore, LLC, Pad ID: COP Tr 356 Pad A, ABR-201007073.R1, Cummings Township, Lycoming County, Pa.; Consumptive Use of Up to 3.0000 mgd; Approval Date: August 14, 2015.

31. Anadarko E&P Onshore, LLC, Pad ID: COP Tr 285 Pad E, ABR-201007074.R1, Grugan Township, Clinton County, Pa.; Consumptive Use of Up to 4.0000 mgd; Approval Date: August 14, 2015.

32. Anadarko E&P Onshore, LLC, Pad ID: COP Tr 357 Pad A, ABR-201007075.R1, Cummings Township, Lycoming County, Pa.; Consumptive Use of Up to 3.0000 mgd; Approval Date: August 14, 2015.

33. Anadarko E&P Onshore, LLC, Pad ID: Clearview HC Pad A, ABR-201007076.R1, Gamble Township, Lycoming County, Pa.; Consumptive Use of Up to 3.0000 mgd; Approval Date: August 14, 2015.

34. Anadarko E&P Onshore, LLC, Pad ID: COP Tr 356 Pad I, ABR-201007114.R1, Cummings Township, Lycoming County, Pa.; Consumptive Use of Up to 3.0000 mgd; Approval Date: August 14, 2015.

35. Anadarko E&P Onshore, LLC, Pad ID: COP Tr 356 Pad F, ABR-201007124.R1, Cummings Township, Lycoming County, Pa.; Consumptive Use of Up to 3.0000 mgd; Approval Date: August 14, 2015.

36. Anadarko E&P Onshore, LLC, Pad ID: COP Tr 285 Pad F, ABR-201008007.R1, Chapman Township, Clinton County, Pa.; Consumptive Use of Up to 3.0000 mgd; Approval Date: August 14, 2015.

37. Anadarko E&P Onshore, LLC, Pad ID: COP Tr 285 Pad D, ABR-201008013.R1, Chapman Township, Clinton County, Pa.; Consumptive Use of Up to 3.0000 mgd; Approval Date: August 14, 2015.

38. Anadarko E&P Onshore, LLC, Pad ID: Charles J McNamee Pad B, ABR-201008016.R1, Cascade Township, Lycoming County, Pa.; Consumptive Use of Up to 3.0000 mgd; Approval Date: August 14, 2015.

39. Anadarko E&P Onshore, LLC, Pad ID: Elbow Pad C, ABR-201008017.R1, Cogan House Township, Lycoming County, Pa.; Consumptive Use of Up to 3.0000 mgd; Approval Date: August 14, 2015.

40. Anadarko E&P Onshore, LLC, Pad ID: COP Tr 285 Pad H, ABR-201008018.R1, Chapman Township, Clinton County, Pa.; Consumptive Use of Up to 3.0000 mgd; Approval Date: August 14, 2015.

41. Anadarko E&P Onshore, LLC, Pad ID: COP Tr 344 Pad B, ABR-201008019.R1, Grugan Township, Clinton County, Pa.; Consumptive Use of Up to 3.0000 mgd; Approval Date: August 14, 2015.

42. Anadarko E&P Onshore, LLC, Pad ID: COP Tr 356 Pad H, ABR-201008020.R1, Cummings Township, Lycoming County, Pa.; Consumptive Use of Up to 3.0000 mgd; Approval Date: August 14, 2015.

43. Anadarko E&P Onshore, LLC, Pad ID: Elbow Pad A, ABR-201008055.R1, Cogan House Township, Lycoming County, Pa.; Consumptive Use of Up to 3.0000 mgd; Approval Date: August 14, 2015.

44. Anadarko E&P Onshore, LLC, Pad ID: Brian K Frymire Pad A, ABR-201008056.R1, Cascade Township, Lycoming County, Pa.; Consumptive Use of Up to 3.0000 mgd; Approval Date: August 14, 2015.

45. Anadarko E&P Onshore, LLC, Pad ID: Ann M. Mercier Pad A, ABR-201007071.R1, Cogan House Township, Lycoming County, Pa.; Consumptive Use of Up to 3.0000 mgd; Approval Date: August 18, 2015.

46. SWEPI LP, Pad ID: Shelman 291, ABR-20100659.R1, Charleston Township, Tioga County, Pa.; Consumptive Use of Up to 4.0000 mgd; Approval Date: August 18, 2015.

47. SWEPI LP, Pad ID: Hauswirth 516, ABR-20100688.R1, Richmond Township, Tioga County, Pa.; Consumptive Use of Up to 4.0000 mgd; Approval Date: August 18, 2015.

48. SWEPI LP, Pad ID: Martin 806, ABR-20100691.R1, Gaines Township, Tioga County, Pa.; Consumptive Use of Up to 4.9900 mgd; Approval Date: August 18, 2015.

49. Talisman Energy USA Inc., Pad ID: Roy 03 046, ABR-20100629.R1, Wells Township, Bradford County, Pa.; Consumptive Use of Up to 6.0000 mgd; Approval Date: August 18, 2015.

50. Talisman Energy USA Inc., Pad ID: Roy 03 040, ABR-20100650.R1, Wells Township, Bradford County, Pa.; Consumptive Use of Up to 6.0000 mgd; Approval Date: August 18, 2015.

51. Talisman Energy USA Inc., Pad ID: Shedden 01 075, ABR-201007004.R1, Granville Township, Bradford County, Pa.; Consumptive Use of Up to 6.0000 mgd; Approval Date: August 18, 2015.

52. Talisman Energy USA Inc., Pad ID: Noble 03 029, ABR-201007011.R1, Wells Township, Bradford County, Pa.; Consumptive Use of Up to 6.0000 mgd; Approval Date: August 18, 2015.

53. Talisman Energy USA Inc., Pad ID: Yurkanin 03 014, ABR-201007033.R1, Columbia Township, Bradford County, Pa.; Consumptive Use of Up to 6.0000 mgd; Approval Date: August 18, 2015.

54. Talisman Energy USA Inc., Pad ID: McMurray 01 031, ABR-201007054.R1, Canton Township, Bradford County, Pa.; Consumptive Use of Up to 6.0000 mgd; Approval Date: August 18, 2015.

55. Talisman Energy USA Inc., Pad ID: 05 080 Young, ABR-201007080.R1, Warren Township, Bradford County, Pa.; Consumptive Use of Up to 6.0000 mgd; Approval Date: August 18, 2015.

56. Talisman Energy USA Inc., Pad ID: Thorp 03 049, ABR-201007082.R1, Wells Township, Bradford County, Pa.; Consumptive Use of Up to 6.0000 mgd; Approval Date: August 18, 2015.

57. Talisman Energy USA Inc., Pad ID: Watson 03 051, ABR-201007084.R1, Columbia Township, Bradford County, Pa.; Consumptive Use of Up to 6.0000 mgd; Approval Date: August 18, 2015.

58. Talisman Energy USA Inc., Pad ID: 05 006 Ugliuzza L, ABR-201007086.R1, Pike Township, Bradford County, Pa.; Consumptive Use of Up to 6.0000 mgd; Approval Date: August 18, 2015.

59. Talisman Energy USA Inc., Pad ID: Cummings 01 081, ABR-201007088.R1, Troy Township, Bradford County, Pa.; Consumptive Use of Up to 6.0000 mgd; Approval Date: August 18, 2015.

60. Talisman Energy USA Inc., Pad ID: Kirkowski 01 066, ABR-201007091.R1, Canton Township, Bradford County, Pa.; Consumptive Use of Up to 6.0000 mgd; Approval Date: August 18, 2015.

61. Talisman Energy USA Inc., Pad ID: Feusner 03 044, ABR-201007094.R1, Columbia Township, Bradford County, Pa.; Consumptive Use of Up to 6.0000 mgd; Approval Date: August 18, 2015.

62. Talisman Energy USA Inc., Pad ID: Feusner 03 045, ABR-201007095.R1, Columbia Township, Bradford County, Pa.; Consumptive Use of Up to 6.0000 mgd; Approval Date: August 18, 2015.

63. Talisman Energy USA Inc., Pad ID: Walters 05 001, ABR-201007096.R1, Herrick Township, Bradford County, Pa.; Consumptive Use of Up to 6.0000 mgd; Approval Date: August 18, 2015.

64. Talisman Energy USA Inc., Pad ID: 05 004 Cooley P, ABR-201007099.R1, Orwell Township, Bradford County, Pa.; Consumptive Use of Up to 6.0000 mgd; Approval Date: August 18, 2015.

65. Talisman Energy USA Inc., Pad ID: 05 002 Warner Valley Farm LLC, ABR-201007130.R1, Pike Township, Bradford County, Pa.; Consumptive Use of Up to 6.0000 mgd; Approval Date: August 18, 2015.

66. EOG Resources, Inc., Pad ID: PHC 23H/24H, ABR-20090917.R1, Lawrence Township, Clearfield County, Pa.; Consumptive Use of Up to 3.0000 mgd; Approval Date: August 24, 2015.

67. EOG Resources, Inc., Pad ID: PHC 28H/29H, ABR-20090918.R1, Lawrence Township, Clearfield County, Pa.; Consumptive Use of Up to 3.0000 mgd; Approval Date: August 24, 2015.

68. EOG Resources, Inc., Pad ID: PHC 20V, ABR-20100156.R1, Lawrence Township, Clearfield County, Pa.; Consumptive Use of Up to 0.9990 mgd; Approval Date: August 24, 2015.

69. EOG Resources, Inc., Pad ID: PHC Pad S, ABR-201009023.R1, Lawrence Township, Clearfield County, Pa.; Consumptive Use of Up to 4.9990 mgd; Approval Date: August 24, 2015.

70. EOG Resources, Inc., Pad ID: PPHC Pad B, ABR-201103023.R1, Lawrence Township, Clearfield County, Pa.; Consumptive Use of Up to 4.9990 mgd; Approval Date: August 24, 2015.

71. EOG Resources, Inc., Pad ID: PHC Pad Z, ABR-201103024.R1, Lawrence Township, Clearfield County, Pa.; Consumptive Use of Up to 4.9990 mgd; Approval Date: August 24, 2015.

72. SWEPI LP, Pad ID: Broadbent 466, ABR-20100673.R1, Delmar Township, Tioga County, Pa.; Consumptive Use of Up to 4.0000 mgd; Approval Date: August 24, 2015.

73. SWEPI LP, Pad ID: Zeafla 747, ABR-20100682.R1, Jackson Township, Lycoming County, Pa.; Consumptive Use of Up to 4.0000 mgd; Approval Date: August 24, 2015.

74. SWEPI LP, Pad ID: Camp Never Too Late 521, ABR-20100683.R1, Rutland Township, Tioga County, Pa.; Consumptive Use of Up to 4.0000 mgd; Approval Date: August 24, 2015.

75. SWEPI LP, Pad ID: Cruttenden 846, ABR-20100685.R1, Middlebury Township, Tioga County, Pa.; Consumptive Use of Up to 4.0000 mgd; Approval Date: August 24, 2015.

76. SWEPI LP, Pad ID: Anthony 564, ABR-201006111.R1, Delmar Township, Tioga County, Pa.; Consumptive Use of Up to 4.0000 mgd; Approval Date: August 24, 2015.

77. SWEPI LP, Pad ID: Costanzo 818, ABR-201006112.R1, Chatham Township, Tioga County, Pa.; Consumptive Use of Up to 1.0000 mgd; Approval Date: August 24, 2015.

78. SWEPI LP, Pad ID: Yaggie 704, ABR-201006113.R1, Union Township, Tioga County, Pa.; Consumptive Use of Up to 4.0000 mgd; Approval Date: August 24, 2015.

79. Anadarko E&P Onshore, LLC, Pad ID: Mac Pad A, ABR-201508001, Cascade Township, Lycoming County, Pa.; Consumptive Use of Up to 4.0000 mgd; Approval Date: August 26, 2015.

80. Anadarko E&P Onshore, LLC, Pad ID: Brooks Family Pad A, ABR-201508002, Cascade Township, Lycoming County, Pa.; Consumptive Use of Up to 4.0000 mgd; Approval Date: August 26, 2015.

81. Chesapeake Appalachia, LLC, Pad ID: Earnshaw, ABR-201508003, Mehoopany Township, Wyoming County, Pa.; Consumptive Use of Up to 7.5000 mgd; Approval Date: August 26, 2015.

82. Cabot Oil & Gas Corporation, Pad ID: Teel P2, ABR-201508004, Dimock Township, Susquehanna County, Pa.; Consumptive Use of Up to 4.2500 mgd; Approval Date: August 26, 2015.

83. SWEPI LP, Pad ID: Gee 848W, ABR-201508005, Middlebury Township, Tioga County, Pa.; Consumptive Use of Up to 4.0000 mgd; Approval Date: August 26, 2015.

84. EOG Resources, Inc., Pad ID: Ward M 1H, ABR-20090421.R1, Springfield Township, Bradford County, Pa.; Consumptive Use of Up to 1.9990 mgd; Approval Date: August 27, 2015.

85. EOG Resources, Inc., Pad ID: PHC 3H, ABR-20090424.R1, Lawrence Township, Clearfield County, Pa.; Consumptive Use of Up to 0.4990 mgd; Approval Date: August 27, 2015.

86. EOG Resources, Inc., Pad ID: SGL 90A Pad, ABR-201008049.R1, Lawrence Township, Clearfield County, Pa.; Consumptive Use of Up to 4.9990 mgd; Approval Date: August 27, 2015.

87. EOG Resources, Inc., Pad ID: SGL 90D Pad, ABR-201103021.R1, Lawrence Township, Clearfield County, Pa.; Consumptive Use of Up to 4.9990 mgd; Approval Date: August 27, 2015.

88. Tenaska Resources, LLC, Pad ID: Wilcox #1, ABR-20090803.R1, Covington Township, Tioga County, Pa.; Consumptive Use of Up to 0.9999 mgd; Approval Date: August 27, 2015.

89. Tenaska Resources, LLC, Pad ID: Strange, ABR-20100404.R1, Sullivan Township, Tioga County, Pa.; Consumptive Use of Up to 2.0000 mgd; Approval Date: August 27, 2015.

90. Tenaska Resources, LLC, Pad ID: Golden Eagle, ABR-20100433.R1, Covington Township, Tioga County, Pa.; Consumptive Use of Up to 2.0000 mgd; Approval Date: August 27, 2015.

91. Tenaska Resources, LLC, Pad ID: Chicken Hawk, ABR-20100434.R1, Sullivan Township, Tioga County, Pa.; Consumptive Use of Up to 2.0000 mgd; Approval Date: August 27, 2015.

92. Tenaska Resources, LLC, Pad ID: Sparrow Hawk, ABR-201009044.R1, Covington Township, Tioga County, Pa.; Consumptive Use of Up to 2.0000 mgd; Approval Date: August 27, 2015.

93. Tenaska Resources, LLC, Pad ID: Red Tailed Hawk, ABR-201011027.R1, Covington Township, Tioga County, Pa.; Consumptive Use of Up to 2.0000 mgd; Approval Date: August 27, 2015.

94. EXCO Resources (PA), LLC, Pad ID: Dale Bower Drilling Pad #1, ABR-20100214.R1, Penn Township, Lycoming County, Pa.; Consumptive Use of Up to 8.0000 mgd; Approval Date: August 28, 2015.

95. EXCO Resources (PA), LLC, Pad ID: Emig Drilling Pad #1, ABR-20100452.R1, Cogan House Township, Lycoming County, Pa.; Consumptive Use of Up to 2.0000 mgd; Approval Date: August 28, 2015.

Authority: Pub. L. 91-575, 84 Stat. 1509 et seq., 18 CFR parts 806, 807, and 808.

Dated: October 26, 2015.
Stephanie L. Richardson,
Secretary to the Commission.

[FR Doc. 2015-28272 Filed 11-5-15; 8:45 am]

BILLING CODE 7040-01-P